DEPARTMENT OF THE INTERIOR

National Park Service

[NPS-PWR-PWRO-14363; PX.PO137227A.00.1]

Draft Wilderness Management Plan/Environmental Impact Statement, Lake Mead National Recreation Area, Nevada/Bureau of Land Management, Southern Nevada District

AGENCY: National Park Service, Interior.

ACTION: Notice of availability.

SUMMARY: Pursuant to the National Environmental Policy Act of 1969, 42 U.S.C. 4332(2)(C), the National Park Service (NPS) and Bureau of Land Management (BLM) announce the availability of Draft Wilderness Management Plan and Environmental Impact Statement (EIS) for the NPS Lake Mead National Recreation Area and BLM Southern Nevada District Office. The jointly prepared Draft Wilderness Management Plan addresses management issues, identifies stewardship goals and objectives, proposes decision-making guidelines for administrative actions and visitor use, and provides guidelines for managing the Jimbilnan, Pinto Valley, Black Canyon, Eldorado, Ireteba Peaks, Nellis Wash, Spirit Mountain, and Bridge Canyon wilderness areas. The NPS and the BLM jointly manage three of these wilderness areas, and five of these areas are managed by the NPS. The proposed plan analyzes three alternatives for future management and use of the eight wilderness areas. Alternative A (no action alternative) reflects current wilderness management and serves as a baseline for comparison with the other alternatives. No major change would occur in the management of the wilderness areas. Alternative B (preferred alternative) generally focuses on identifying specific opportunities for access into the areas while still protecting the character of the wilderness areas. Alternative C provides a higher level of access and visitor use management while still protecting the overall character of the wilderness areas.

DATES: All written comments must be postmarked or transmitted not later than 60 days after the date of publication in the Federal Register of the Environmental Protection Agency's notice of filing of the Draft EIS. Several public meetings will be hosted mid-way during the public review period—the dates, locations and other information about the meetings will be announced on http://parkplanning.nps.gov/lake, via local and regional press media, and will also be available by contacting Lake Mead National Recreation Area and the BLM's Las Vegas Field Office.

ADDRESSES: The Draft EIS will be available for public review and comment online at http://parkplanning.nps.gov.lake, in the office of the Superintendent, Lake Mead National Recreation Area, 601 Nevada Way, Boulder City, NV 89005; telephone (702) 293-8920; and the BLM Las Vegas Field Office, 4701 North Torrey Pines Drive, Las Vegas, NV 89130; telephone (702) 515-5297. You may submit your written comments by one of two methods. You may mail comments to Lake Mead National Recreation Area, Attn: Draft Wilderness Management Plan/Environmental Impact Statement, 601 Nevada Way, Boulder City, NV 89005. You may also comment via the internet at http://parkplanning.nps.gov/lake. Comments will also be accepted during the public meetings. Bulk comments in any format (hard copy or electronic) submitted on behalf of others will not be accepted.

Before including your address, phone number, email address, or other personal identifying information in your comment, you should be aware that your entire comment—including your personal identifying information—may be made publicly available at any time. While you can ask us in your comment to withhold your personal identifying information from public review, we cannot guarantee that we will be able to do so. All submissions from organizations and businesses, and individuals identifying themselves as representatives or officials of organizations or businesses, are made available in their entirety.

FOR FURTHER INFORMATION CONTACT: Mr. Jim Holland, Wilderness Planner, Lake Mead National Recreation Area, 601 Nevada Way, Boulder City, NV 89005; jim_holland@nps.gov; telephone (702) 293-8986.

Ms. Sendi Kalcic, Wilderness Specialist, BLM Las Vegas Field Office, 4701 North Torrey Pines Drive, Las Vegas, NV 89130; skalcic@blm.gov; telephone (702) 515-5297.

Mr. Greg Jarvis, Project Manager, NPS Denver Service Center, 12795 W. Alameda Parkway, Lakewood, CO 80228; greg_jarvis@nps.gov; telephone (303) 969-2263.

SUPPLEMENTARY INFORMATION: During April 2010 a Draft Wilderness Management Plan/Environmental Assessment was distributed for public review. However, due to issues subsequently raised by rock climbers and American Indian tribes, the NPS and BLM agreed to prepare a revised Wilderness Management Plan/EIS. Regarding rock climbing management for alternatives B and C in the Draft Wilderness Management Plan/EIS, no fixed anchors or equipment for climbing activities would be permitted in Spirit Mountain Wilderness; all existing fixed anchors and equipment would be removed if it can be done without damaging rock faces. In Bridge Canyon Wilderness no new fixed anchors or fixed equipment would be permitted, with the exception of permitted replacement anchors. After an inventory of climbing routes is completed, the NPS would work with tribes and partners to reduce the concentration of some of the existing bolt-intensive face climbs at certain climbing areas in Bridge Canyon Wilderness.

Other key topics addressed in the Draft Wilderness Management Plan/EIS include:

• Providing access within the wilderness areas versus protecting wilderness characteristics,

• Providing information about the wilderness areas versus protecting wilderness characteristics,

• Providing for use of Spirit Mountain while meeting tribal needs and concerns,

• Consideration of the kinds of activities and levels of visitor use that should be permitted while ensuring cultural resource protection,

• The use of climbing equipment (including climbing chalk) near sensitive cultural resources (e.g., petroglyphs and pictographs),

• Restoring disturbed areas within the wilderness areas,

• Coordinating interagency management efforts.

Decision Process: Following due consideration of all comments received, a Final EIS will be prepared. Because this is a delegated EIS, the officials responsible for a final decision are the NPS Regional Director, Pacific West Region, and the BLM State Manager, Nevada.

Dated: October 25, 2013.
Martha J. Lee,
Acting Regional Director, Pacific West Region, National Park Service.

[FR Doc. 2014-01008 Filed 1-17-14; 8:45 am]

BILLING CODE 4312-FF-P